DEPARTMENT OF ENERGY

Federal Energy Regulatory Commission

[Docket No. RP01-42-000]

Mississippi River Transmission Corporation; Notice of Proposed Changes to FERC Gas Tariff

October 17, 2000.

Take notice that on October 11, 2000, Mississippi River Transmission Corporation (MRT) tendered for filing as part of its FERC Gas Tariff, Third Revised Volume No. 1, the following tariff sheets to be effective November 10, 2000:

Third Revised Sheet No. 21

Third Revised Sheet No. 33

Fifth Revised Sheet No. 249

Original Sheet No. 249A

MRT states that the purpose of this filing is to reflect the implementation of non-discriminatory waiver of fuel charges for a transaction on an MRT non-contiguous lateral that does not use fuel.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Davis P. Boergers,
Secretary.

[FR Doc. 00-27100 Filed 10-20-00; 8:45 am]

BILLING CODE 6717-01-M